FEDERAL DEPOSIT INSURANCE CORPORATION

Sunshine Act Meeting

Pursuant to the provisions of the “Government in the Sunshine Act” (5 U.S.C. 552b), notice is hereby given that the Federal Deposit Insurance Corporation's Board of Directors will meet in open session at 10 a.m. on Wednesday, December 7, 2011, to consider the following matters:

Summary Agenda: No substantive discussion of the following items is anticipated. These matters will be resolved with a single vote unless a member of the Board of Directors requests that an item be moved to the discussion agenda.

Disposition of minutes of previous Board of Directors' Meetings.

Memorandum and resolution re: Notice of Proposed Rulemaking on Treatment of a Mutual Insurance Holding Company as an Insurance Company for the Purpose of Section 203(e) of the Dodd-Frank Wall Street Reform and Consumer Protection Act.

Memorandum and resolution re: Designated Reserve Ratio for 2012.

Memorandum and resolution re: Authorization to Publish Privacy Act System of Records Notices in the Federal Register.

Resolution for Retiring Executive.

Summary reports, status reports, reports of the Office of Inspector General, and reports of actions taken pursuant to authority delegated by the Board of Directors.

Discussion Agenda:

Memorandum and resolution re: Notice of Proposed Rulemaking on Risk-Based Capital Guidelines: Market Risk; Alternatives to Credit Ratings for Debt and Securitization Positions.

Memorandum and resolution re: Notice of Proposed Rulemaking on Permissible Investments for Federal and State Savings Associations: Corporate Debt Securities and Proposed Guidance on Due Diligence Requirements for Savings Associations in Determining whether a Corporate Debt Security is Eligible for Investment under Part 362.

Memorandum and resolution re: Proposed 2012 Corporate Operating Budget.

The meeting will be held in the Board Room on the sixth floor of the FDIC Building located at 550 17th Street NW., Washington, DC.

This Board meeting will be Webcast live via the Internet and subsequently made available on-demand approximately one week after the event. Visit http://www.vodium.com/goto/fdic/boardmeetings.asp to view the event. If you need any technical assistance, please visit our Video Help page at: http://www.fdic.gov/video.html.

The FDIC will provide attendees with auxiliary aids (e.g., sign language interpretation) required for this meeting. Those attendees needing such assistance should call (703) 562-2404 (Voice) or (703) 649-4354 (Video Phone) to make necessary arrangements.

Requests for further information concerning the meeting may be directed to Mr. Robert E. Feldman, Executive Secretary of the Corporation, at (202) 898-7043.

Dated: November 30, 2011.
Federal Deposit Insurance Corporation.
Robert E. Feldman,
Executive Secretary.

[FR Doc. 2011-31251 Filed 12-1-11; 4:15 pm]

BILLING CODE P